DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by August 30, 2023 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: FNS-380-1, Supplemental Nutrition Assistance Program's Quality Control Review Schedule.

OMB Control Number: 0584-0299.

Summary of Collection: The FNS-380-1, Quality Control Review Schedule (QCRS), was developed by the Food and Nutrition Service (FNS) for State use to collect both QC data and case characteristics for SNAP and to serve as the comprehensive data entry form for SNAP QC reviews. The legislative basis for the QC system is in Section 16 of the Food and Nutrition Act of 2008, as amended (the Act). Part 275, subpart C, of SNAP regulations implements the legislative mandates found in Section 16. The regulatory basis for the QC reporting requirements is provided by 7 CFR 275.14(d) and 7 CFR 275.21. State agencies are required to perform QC reviews for SNAP.

Need and Use of the Information: The information needed to complete the FNS-380-1 form is obtained from the SNAP case record through State agency quality control findings. The information is used to monitor and reduce errors, develop policy strategies, and analyze household characteristic data.

Description of Respondents: State, Local and Tribal Governments.

Number of Respondents: 53.

Frequency of Responses: Reporting: Monthly.

Total Burden Hours: 49,291.

Food and Nutrition Service

Title: Food Program Reporting System (FPRS).

OMB Control Number: 0584-0594.

Summary of Collection: The Food and Nutrition Service (FNS) is consolidating certain programmatic and financial data reporting requirements under the Food Programs Reporting System (FPRS), an electronic reporting system. The purpose is to give State agencies, Business and Indian Tribal Organization (ITO) agencies one portal for the various reporting required for the programs that the State and ITO agencies operate.

Need and Use of the Information: The data collected will be used for a variety of purposes, mainly program evaluation, planning, audits, funding, research, regulatory compliance, and general statistics. The data is gathered at various times, ranging from monthly, quarterly, annual, or final submissions. Without the information, FNS would be unable to meet its legislative and regulatory reporting requirements for the affected programs.

Description of Respondents: State, Local or Tribal Government; Business.

Number of Respondents: 14,329.

Frequency of Responses: Reporting: Quarterly, Semi-annually, Monthly; Annually.

Total Burden Hours: 121,438.

Ruth Brown,
Departmental Information Collection Clearance Officer.

[FR Doc. 2023-16127 Filed 7-28-23; 8:45 am]

BILLING CODE 3410-30-P